DEPARTMENT OF HEALTH AND HUMAN SERVICES

National Institutes of Health

National Institute on Aging; Amended Notice of Meeting

Notice is hereby given of a change in the meeting of the National Institute on Aging Special Emphasis Panel, March 20, 2020, 8:00 a.m. to 6:00 p.m., Hyatt Regency, Bethesda, Conference Room Cabinet Suite, One Bethesda Metro Center, 7400 Wisconsin Avenue, Bethesda, MD 20814 which was published in the Federal Register on January 15, 2020, 85 FR 2431.

The meeting notice is amended to change the Meeting Format from Regular Meeting on March 20, 2020 to a Teleconference Meeting on March 20, 2020. The meeting is closed to the public.

Dated: March 6, 2020.
Miguelina Perez,
Program Analyst, Office of Federal Advisory Committee Policy.

[FR Doc. 2020-05039 Filed 3-11-20; 8:45 am]

BILLING CODE 4140-01-P